SMALL BUSINESS ADMINISTRATION

[Declaration of Disaster #3407]

Federated States of Micronesia; State of Yap; Disaster Loan Areas

The State of Yap in the Federated States of Micronesia constitutes a disaster area as a result of damages caused by Typhoon Mitag that began on February 26 and continued through March 3, 2002. The typhoon caused structural damages throughout the State of Yap from wind, rain, strong tidal surges and flooding in low-lying coastal areas. Applications for loans for physical damage as a result of this disaster may be filed until the close of business on July 8, 2002, and for economic injury until the close of business on February 7, 2003, at the address listed below or other locally announced locations: U.S. Small Business Administration, Disaster Area 4 Office, P.O. Box 13795, Sacramento, CA 95853-4795.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 340706 and for economic damage is 9P3800.

(Catalog of Federal Domestic Assistance Program Nos. 59002 and 59008)
Dated: May 7, 2002.
Hector V. Barreto,
Administrator.

[FR Doc. 02-11927 Filed 5-10-02; 8:45 am]

BILLING CODE 8025-01-P